DEPARTMENT OF AGRICULTURE

Grain Inspection, Packers and Stockyards Administration

[05-TX-S]

Designation for the South Texas Area

AGENCY: Grain Inspection, Packers and Stockyards Administration, USDA.

ACTION: Notice.

SUMMARY: Grain Inspection, Packers and Stockyards Administration (GIPSA) announces designation of Global Grain Inspection Services, Inc. (Global), to provide official services under the United States Grain Standards Act, as amended (Act).

DATES: Effective date: May 1, 2005.

ADDRESSES: USDA, GIPSA, Janet M. Hart, Chief, Review Branch, Compliance Division, STOP 3604, Room 1647-S, 1400 Independence Avenue, SW., Washington, DC 20250-3604.

FOR FURTHER INFORMATION CONTACT: Janet M. Hart at 202-720-8525, e-mail Janet.M.Hart@usda.gov.

SUPPLEMENTARY INFORMATION: This action has been reviewed and determined not to be a rule or regulation as defined in Executive Order 12866 and Departmental Regulation 1512-1; therefore, the Executive Order and Departmental Regulation do not apply to this action.

In the December 8, 2004, Federal Register (69 FR 70994), GIPSA asked persons interested in providing official services in the South Texas area to submit an application for designation. Applications were due by January 7, 2005.

There were four applicants for the South Texas area: Plainview Grain Inspection and Weighing Service, Inc. (Plainview), and D. R. Schaal Agency, Inc., (Schaal) both currently designated official agencies; a company proposing to do business as Global Grain Inspection Services, Inc., (Global) (as a subsidiary of BSI Inspectorate America Corporation), and Tyrone Martin, Sr., proposing to do business as Gulf South Regional Grain Service, LLC, (Gulf South). Plainview, Schaal, Global, and Gulf South applied for designation to provide official services in the entire area named in the December 8, 2004, Federal Register.

GIPSA asked for comments on Plainview, Schaal, Global, and Gulf South in the February 8, 2005, Federal Register (70 FR 6612). Comments were due by March 10, 2005. GIPSA received no comments by the closing date.

GIPSA evaluated all available information regarding the designation criteria in Section 7(f)(l)(A) of the Act and, according to Section 7(f)(l)(B), determined that Global is better able to provide official services in the geographic area specified in the December 8, 2004, Federal Register, for which it applied, effective May 1, 2005, and terminating November 30, 2006. Interested persons may obtain official services by calling Global headquarters in Fort Worth, Texas at 817-714-5269.

Authority: 7 U.S.C. 71 et seq.

David R. Shipman,
Acting Administrator, Grain Inspection, Packers and Stockyards Administration.

[FR Doc. 05-7239 Filed 4-8-05; 8:45 am]

BILLING CODE 3410-EN-P